DEPARTMENT OF HOMELAND SECURITY

Coast Guard

[Docket No. USCG-2010-0164]

National Boating Safety Advisory Council

AGENCY: U.S. Coast Guard, Department of Homeland Security.

ACTION: Notice of Federal Advisory Committee meeting.

SUMMARY: The National Boating Safety Advisory Council and its Subcommittees will meet to discuss issues relating to recreational boating safety. These meetings will be open to the public.

DATES:

Meetings. The National Boating Safety Advisory Council will meet on Thursday, October 18, 2018, from 9 a.m. to 5 p.m. and on Saturday, October 20, 2018 from 8:30 a.m. to 10:30 a.m. The Boats and Associated Equipment Subcommittee will meet on Friday, October 19, 2018, from 8 a.m. to 10 a.m. The Prevention through People Subcommittee will meet on Friday, October 19, 2018, from 10:15 a.m. to 2:45 p.m. The Recreational Boating Safety Strategic Planning Subcommittee will meet on Friday, October 19, 2018, from 3 p.m. to 5 p.m. Please note that these meetings may conclude early if the National Boating Safety Advisory Council has completed all business.

Comments and supporting documentation. To ensure your comments are reviewed by Council members before the meetings, submit your written comments no later than October 12, 2018.

ADDRESSES: All meetings will be held at the U.S. Coast Guard Training Center Cape May, 1 Munro Avenue, Cape May, NJ 08204 in Building 252, Classroom 12. Access to Training Center Cape May is restricted. Individuals interested in attending the meeting need to pre-register using the following information:

Pre-registration Information: Foreign nationals participating will be required to pre-register no later than October 1, 2018, to be admitted to the meeting. U.S. citizens participating will be required to pre-register no later than October 12, 2018, to be admitted to the meeting. To pre-register, contact Mr. Jeff Ludwig, (202) 372-1061, NBSAC@uscg.mil with National Boating Safety Advisory Council in the subject line and provide your name, company, and telephone number; if a foreign national, also provide your country citizenship, passport country, country of residence, place of birth as well as your passport number and expiration date. All attendees will be required to provide a REAL ID Act-compliant government-issued picture identification card in order to gain admittance to the Coast Guard base where the meeting will be held. For more information on REAL-ID and to check the compliance status of your state/territory please see https://www.dhs.gov/real-id and https://www.dhs.gov/real-id-public-faqs.

For information on facilities or services for individuals with disabilities or to request special assistance at the meeting, contact the individual listed in the FOR FURTHER INFORMATION CONTACT section below as soon as possible.

Instructions: You are free to submit comments at any times, including orally at the meetings, but if you want Council members to review your comment before the meetings, please submit your comments no later than October 1, 2018. We are particularly interested in the comments in the “Agenda” section below. You must include “Department of Homeland Security” and the docket number USCG-2010-0164. Written comments may also be submitted using the Federal eRulemaking Portal at http://www.regulations.gov.

If you encounter technical difficulties with comments submission, contact the individual listed in the FOR FURTHER INFORMATION CONTACT section below. Comments received will be posted without alteration at http://www.regulations.gov, including any personal information provided. For more about privacy and the docket, review the Privacy and Security Notice for the Federal Docket Management System at https://www.regulations.gov/privacyNotice.

Docket Search: For access to the docket to read documents or comments related to this notice, go to http://www.regulations.gov insert USCG-2010-0164 in the “Search” box, press Enter, then click the item you wish to view.

FOR FURTHER INFORMATION CONTACT: Mr. Jeff Ludwig, Alternate Designated Federal Officer of the National Boating Safety Advisory Council, telephone (202) 372-1061, or at NBSAC@uscg.mil.

SUPPLEMENTARY INFORMATION: Notice of this meeting is given pursuant to the Federal Advisory Committee Act (Title 5, U.S.C. Appendix). Congress established the National Boating Safety Advisory Council in the Federal Boat Safety Act of 1971 (Pub. L. 92-75). The National Boating Safety Advisory Council currently operates under the authority of 46 U.S.C. 13110 and 46 U.S.C. 4302(c). The latter requires the Secretary of Homeland Security and the Commandant of the U.S. Coast Guard by delegation to consult with the National Boating Safety Advisory Council in prescribing regulations for recreational vessels and associated equipment and on other major safety matters.

Agenda

Day 1

The agenda for the National Boating Safety Advisory Council meeting is as follows:

Thursday, October 18, 2018

(1) Opening remarks.

(2) Presentation of Awards to Outgoing National Boating Safety Advisory Council Members.

(3) Receipt and discussion of the following reports:

(a) Chief, Office of Auxiliary and Boating Safety, update on the U.S. Coast Guard's implementation of National Boating Safety Advisory Council Recommendations and Recreational Boating Safety Program Report.

(b) Alternate Designated Federal Officer's report concerning Council administrative and logistical matters.

(c) Update on the implementation of the National Recreational Boating Survey.

(d) Update on the National Recreational Boating Grant Program.

(4) Presentation on voluntary life jacket wear efforts.

(5) Presentation(s) on Boating under the Influence (BUI) reduction efforts.

(6) Public comment period.

(7) Meeting Recess.

Day 2

Friday, October 19, 2018

The day will be dedicated to Subcommittee sessions:

(1) Boats and Associated Equipment Subcommittee.

Issues to be discussed include alternatives to pyrotechnic visual distress signals; grant projects related to boats and associated equipment; and updates to 33 CFR 181 “Manufacturer Requirements” and 33 CFR 183 “Boats and Associated Equipment.”

(2) Prevention Through People Subcommittee.

Issues to be discussed include paddlesports participation, overview of State boating Safety programs, and licensing requirements for on-water boating safety instruction providers.

(3) Recreational Boating Safety Strategic Planning Subcommittee.

Issues to be discussed include progress on implementation of the 2017-2021 Strategic Plan.

Day 3

Saturday, October 20, 2018

The full Council will resume meeting.

(1) Receipt and Discussion of the Boats and Associated Equipment, Prevention through People and Recreational Boating Safety Strategic Planning Subcommittee reports.

(2) Discussion of any recommendations to be made to the U.S. Coast Guard.

(3) Public comment period.

(4) Voting on any recommendations to be made to the U.S. Coast Guard.

(5) Closing remarks.

(6) Adjournment of meeting.

There will be a comment period for the National Boating Safety Advisory Council members and a comment period for the public after each report presentation, but before each is voted on by the Council. The Council members will review the information presented on each issue, deliberate on any recommendations presented in the Subcommittees' reports, and formulate recommendations for the Department's consideration.

The meeting agenda and all meeting documentation can be found at: https://homeport.uscg.mil/missions/ports-and-waterways/safety-advisory-committees/nbsac/announcements. Alternatively, you may contact Mr. Jeff Ludwig as noted in the FOR FURTHER INFORMATION CONTACT section above.

Public comments or questions will be taken throughout the meeting as the Council discusses the issues and prior to deliberations and voting. There will also be a public comment period at the end of the meeting. Speakers are requested to limit their comments to 3 minutes. Please note that the public comment period may end before the period allotted, following the call for comments. Contact the individual listed in the FOR FURTHER INFORMATION CONTACT section above to register as a speaker.

Dated: September 10, 2018.
Jennifer F. Williams,
Captain, U.S. Coast Guard, Director of Inspections and Compliance.

[FR Doc. 2018-20127 Filed 9-17-18; 8:45 am]

BILLING CODE 9110-04-P